DEPARTMENT OF HEALTH AND HUMAN SERVICES

Health Resources and Services Administration

Agency Information Collection Activities: Proposed Collection; Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Application for the National Health Service Corps (NHSC) Clinician Retention Information: New Collection

The National Health Service Corps (NHSC) of the Bureau of Health Professions (BHPr), HRSA, is committed to improving the health of the Nation's underserved by uniting communities in need with caring health professionals and by supporting communities' efforts to build better systems of care.

The NHSC is responsible for collecting data on its programs to ensure compliance with legislative mandates and to report to Congress and policymakers on program accomplishments. One of the most important statistics reported to Congress and policymakers is the retention rate of NHSC supported clinicians serving in an underserved area. The following information will be collected three months prior to the completion of obligated service: (1) Verification of current contact information; (2) if employment is to be continued at the same NHSC site; (3) if the clinician moved from the NHSC service site but plans to continue practicing in an underserved area, and (4) the primary reason for stopping practice in an underserved area, if applicable.

The estimated burden is as follows:

Type of report | Number of respondents | Responses per respondent | Hours per response | Total burden hours
NHSC Clinical Retention Information | 1000 | 1 | 0.25 | 250

Send comments to Susan G. Queen, PhD, HRSA Reports Clearance Officer, Room 10-33, Parklawn Building, 5600 Fishers Lane, Rockville, MD 20857. Written comments should be received within 60 days of this notice.

Dated: February 27, 2007.
Alexandra Huttinger,
Acting Director, Division of Policy Review and Coordination.

[FR Doc. E7-3901 Filed 3-6-07; 8:45 am]

BILLING CODE 4165-15-P